SECURITIES AND EXCHANGE COMMISSION

[Release No. 34-78718; File No. SR-OCC-2016-801]

Self-Regulatory Organizations; The Options Clearing Corporation; Notice of Withdrawal of an Advance Notice Related to the Adoption of an Options Exchange Risk Control Standards Policy

August 30, 2016.

On March 4, 2016, The Options Clearing Corporation (“OCC”) filed with the Securities and Exchange Commission (“Commission”), pursuant to section 806(e)(1) of the Payment, Clearing, and Settlement Supervision Act of 2010 (“Clearing Supervision Act”) ¹ and Rule 19b-4(n)(1)(i) under the Securities Exchange Act of 1934,² an advance notice proposing to adopt a new Options Exchange Risk Control Standards Policy and revise its Schedule of Fees to impose on clearing members a fee of two cents per cleared options contract (per side) executed on an options exchange that did not demonstrate sufficient risk controls designed to meet the proposed set of principles-based risk control standards. On April 14, 2016, the Commission requested additional information from OCC pursuant to section 806(e)(1)(D) of the Clearing Supervision Act.³ Notice of the advance notice was published in the Federal Register on April 21, 2016.⁴ The Commission received one comment letter in response to the advance notice.⁵

¹ 12 U.S.C. 5465(e)(1).

² 17 CFR 240.19b-4(n)(1)(i).

³ 12 U.S.C. 5465(e)(1)(D). OCC did not submit a response to the Commission's request for additional information.

⁴ See Securities Exchange Act Release No. 77628 (April 15, 2016), 81 FR 23536 (April 21, 2016).

⁵ See Letter from OCC, dated June 13, 2016, to Brent J. Fields, Secretary, Commission.

On July 14, 2016, OCC filed a withdrawal of its advance notice (SR-OCC-2016-801) from consideration by the Commission. The Commission is hereby publishing notice of the withdrawal.

By the Commission.
Robert W. Errett,
Deputy Secretary.

[FR Doc. 2016-21249 Filed 9-2-16; 8:45 am]

BILLING CODE 8011-01-P